NATIONAL AERONAUTICS AND SPACE ADMINISTRATION

[Notice: 21-018]

NASA Advisory Council; Science Committee; Meeting

AGENCY: National Aeronautics and Space Administration.

ACTION: Notice of meeting.

SUMMARY: In accordance with the Federal Advisory Committee Act, as amended, the National Aeronautics and Space Administration (NASA) announces a meeting of the Science Committee of the NASA Advisory Council (NAC). This Committee reports to the NAC. The meeting will be held for the purpose of soliciting, from the scientific community and other persons, scientific and technical information relevant to program planning.

DATES: Wednesday, April 14, 2021, 12:30-5:00 p.m.; and Thursday, April 15, 2021, 1:00-5:00 p.m.; Eastern Time.

FOR FURTHER INFORMATION CONTACT: Ms. KarShelia Henderson, Science Mission Directorate, NASA Headquarters, Washington, DC 20546, (202) 358-2355 or khenderson@nasa.gov.

SUPPLEMENTARY INFORMATION: This meeting will be open to the public via Webex and telephonically. Webex connectivity information for each day is provided below. For audio, when you join the Webex event, you may use your computer or provide your phone number to receive a call back, otherwise, call the U.S. toll conference number listed for each day.

On Wednesday, April 14, the event address for attendees is: https://nasaenterprise.webex.com/nasaenterprise/onstage/g.php?MTID=e6bcad84ab11d25ae3be15f5f049ec876. The event number is 199 910 0118 and the event password is BXeCv3Er*48. If needed, the U.S. toll conference number is 1-415-527-5035 and access code is 199 910 0118.

On Thursday, April 15, the event address for attendees is: https://nasaenterprise.webex.com/nasaenterprise/onstage/g.php?MTID=eaaad5072c23c72dba00f5ba93cb33d12. The event number is 199 236 4230 and the event password is 2gVXbrpd*77. If needed, the U.S. toll conference number is 1-415-527-5035 and access code is 199 236 4230. The agenda for the meeting includes the following topics:

—Science Mission Directorate (SMD) Missions, Programs and Activities

It is imperative that the meeting be held on these dates due to the scheduling priorities of the key participants.

Patricia Rausch,
Advisory Committee Management Officer, National Aeronautics and Space Administration.

[FR Doc. 2021-06544 Filed 3-30-21; 8:45 am]

BILLING CODE 7510-13-P